DEPARTMENT OF TRANSPORTATION

Office of the Secretary

Aviation Proceedings, Agreements Filed During the Week Ending March 8, 2002

The following Agreements were filed with the Department of Transportation under the provisions of 49 U.S.C. Sections 412 and 414. Answers may be filed within 21 days after the filing of the application.

Docket Number: OST-2002-11783

Date Filed: March 6, 2002

Parties: Members of the International Air Transport Association

Subject:

PTC2 EUR-AFR 0146 dated 22 February 2002

TC2 Europe-Africa Expedited Resolutions r1-r6

PTC2 EUR-AFR 0147 dated 1 March 2002

TC2 Europe—Africa Resolutions r7-r47

Minutes—PTC2 EUR-AFR 0145 dated 22 February 2002

Tables—PTC2 EUR-AFR Fares 0094 dated 1 March 2002

Intended effective dates: 1 April 2002, 1 May 2002

Docket Number: OST-2002-11784

Date Filed: March 6, 2002

Parties: Members of the International Air Transport Association

Subject:

PTC2 AFR 0115 dated 19 February 2002

TC2 Within Africa Expedited Resolutions 015v, 017c

PTC2 AFR 0117 dated 26 February 2002

TC2 Within Africa Resolutions r3-r30

Minutes—PTC2 AFR 0116 dated 22 February 2002

Tables—PTC2 AFR Fares 0043 dated 1 March 2002

Intended effective dates: 1 April 2002, 1 May 2002

Docket Number: OST-2002-11793

Date Filed: March 7, 2002

Parties: Members of the International Air Transport Association

Subject:

PTC12 NMS-AFR 0129 dated 1 March 2002

TC12 South Atlantic-Africa Expedited Resolutions r1-r4

PTC12 NMS-AFR 0131 dated 1 March 2002

TC12 South Atlantic-Africa Resolution 002d r5

Intended effective dates: 15 April 2002, 30 April 2002

Docket Number: OST-2002-11794

Date Filed: March 7, 2002

Parties: Members of the International Air Transport Association

Subject:

PTC12 NMS-AFR 0128 dated 1 March 2002

North Atlantic-Africa Expedited Resolutions r1-r5

PTC12 NMS-AFR 0130 dated 1 March 2002

North Atlantic-Africa Expedited Resolutions 002a r6

Intended effective dates: 15 April 2002, 30 April 2002

Docket Number: OST-2002-11803

Date Filed: March 7, 2002

Parties: Members of the International Air Transport Association

Subject:

Mail Votes 203 and 204

PTC12 NMS-ME 0156 dated 6 February 2002

TC12 Mid Atlantic-Middle East Resolutions r1-r10

PTC12 NMS-ME 0157 dated 6 February 2002

TC12 South Atlantic-Middle East Resolutions r11-r20

PTC12 NMS-ME 0164 and 0165 dated 1 March 2002

Adoption of Mail Votes 203 and 204

Minutes—PTC12 NMS-ME 0160 dated 15 February 2002 filed with Docket OST 2002-11699

Tables—PTC12 NMS-Fares 0090 dated 5 March 2002

PTC12 NMS-Fares 0091 dated 5 March 2002

Intended effective dates: 1 April 2002

Andrea M. Jenkins,
Federal Register Liaison.

[FR Doc. 02-6965 Filed 3-21-02; 8:45 am]

BILLING CODE 4910-62-P